DEPARTMENT OF ENERGY

Federal Energy Regulatory Commission

Combined Notice of Filings #2

Take notice that the Commission received the following electric rate filings:

Docket Numbers: ER15-1868-001.

Applicants: Montour, LLC.

Description: Compliance filing: Amendment to Notice of Succession & Certificate of Concurrance-Conemaugh to be effective 7/22/2015.

Filed Date: 7/22/15.

Accession Number: 20150722-5070.

Comments Due: 5 p.m. ET 8/12/15.

Docket Numbers: ER15-1872-001.

Applicants: Montour, LLC.

Description: Compliance filing: Amendment to Notice of Succession & Certificate of Concurrance-Keystone to be effective 7/22/2015.

Filed Date: 7/22/15.

Accession Number: 20150722-5071.

Comments Due: 5 p.m. ET 8/12/15.

Docket Numbers: ER15-2232-000.

Applicants: ISO New England Inc.

Description: ISO New England Inc. Resource Termination-Enerwise Global Technologies, Inc.

Filed Date: 7/21/15.

Accession Number: 20150721-5121.

Comments Due: 5 p.m. ET 8/11/15.

Docket Numbers: ER15-2240-000.

Applicants: Alabama Power Company.

Description: § 205(d) Rate Filing: Southern Power (Butler Solar) LGIA Amendment Filing to be effective 6/22/2015.

Filed Date: 7/22/15.

Accession Number: 20150722-5100.

Comments Due: 5 p.m. ET 8/12/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2015.
Nathaniel J. Davis, Sr.,
Deputy Secretary.

[FR Doc. 2015-18567 Filed 7-28-15; 8:45 am]

BILLING CODE 6717-01-P